NATIONAL AERONAUTICS AND SPACE ADMINISTRATION

[Notice 05-083]

NASA Advisory Council, Financial Audit Committee, Meeting

AGENCY: National Aeronautics and Space Administration.

ACTION: Notice of meeting.

SUMMARY: In accordance with the Federal Advisory Committee Act (FACA), Pub. L. 92-463, as amended, the National Aeronautics and Space Administration announce a forthcoming meeting of the NASA Advisory Council (NAC), Financial Audit Committee (NFAC).

DATES: Friday, May 20, 2005, 9 a.m. to 3 p.m.

ADDRESSES: National Aeronautics and Space Administration, Goddard Space Flight Center, 8463 Greenbelt Road, Bldg. 8, Room 429, Greenbelt, MD 20770. (301) 286-0569.

FOR FURTHER INFORMATION CONTACT: Ms. Ermerdene Lee, of the Chief Financial Officer's Office, National Aeronautics and Space Administration, Washington, DC 20546. (202) 358-4529, e-mail elee1@hq.nasa.gov.

SUPPLEMENTARY INFORMATION: The meeting will be open to the public up to the capacity of the room. The agenda for the meeting includes the following topics:

• Overview of the Goddard Space Flight Center

• Goddard Office of the Chief Financial Officer Summary

• Financial Management Material Weakness

• Corrective Action Tracking System

U.S. Citizens desiring to attend the NASA Financial Audit Committee meeting at the Goddard Space Flight Center (GSFC) must provide their full name, citizenship, company affiliation (if applicable), place of birth, and date of birth and Foreign nationals who desire to attend the meeting must provide their passport or naturalization papers to the GSFC Security Office no less than 3 working days prior to the meeting. If the above information is not received by the noted date, attendees should expect a delay in entering the Goddard Space Flight Center. All visitors to this meeting should go to the GSFC Security Office, accessible from Greenbelt Road, where they will be cleared, given an identification badge, and transported to the meeting location, if seating is available. Please provide the requested information, by the appropriate date, via FAX to (301) 286-1715, to the attention of Kathy Palmer, noting at the top: “PUBLIC ADMISSION TO THE FINANCIAL AUDIT COMMITTEE MEETING @ GSFC.” Faxes not addressed as required will not be processed. For security questions, please contact Kathy Palmer at (301) 286-0569.

Dated: April 27, 2005.
P. Diane Rausch,
Advisory Committee Management Officer, National Aeronautics and Space Administration.

[FR Doc. 05-8809 Filed 5-2-05; 8:45 am]

BILLING CODE 7510-13-P